DEPARTMENT OF THE INTERIOR

Fish and Wildlife Service

Migratory Bird Permits; Notice of Intent To Prepare an Environmental Assessment for Falconry and Raptor Propagation Activities

AGENCY: Fish and Wildlife Service, Interior.

ACTION: Notice of intent to prepare an environmental assessment.

SUMMARY: The U.S. Fish and Wildlife Service (we or us) will pepare an updated draft environmental assessment of the activities of falconry and raptor propagation in the United States. We seek suggestions for issues and alternatives to consider when doing so.

DATES: Send suggestions on topics for the environmental assessment by March 11, 2005.

ADDRESSES: You may submit comments by any of the following methods:

• Agency Web Site: http://migratorybirds.fws.gov. Follow the links to submit a comment.

• E-mail address for comments: Falconry and Propagation EA@fws.gov.

• Fax: 703-358-2217.

• Mail: Chief, Division of Migratory Bird Management, U.S. Fish and Wildlife Service, 4401 North Fairfax Drive, Mail Stop MBSP-4107, Arlington, Virginia 22203-1610.

• Hand Delivery: Division of Migratory Bird Management, U.S. Fish and Wildlife Service, 4501 North Fairfax Drive, Room 4091, Arlington, Virginia 22203-1610.

Instructions: All submissions received must note that they are for consideration in development of the environmental assessment on falconry and raptor propagation activities. All comments received, including any personal information provided, will be available for public inspection at the address given above for hand delivery of comments. For detailed instructions on submitting comments and additional information on the process, see the “Public Participation” heading in the SUPPLEMENTARY INFORMATION section of this document.

FOR FURTHER INFORMATION CONTACT: Brian Millsap, Chief, Division of Migratory Bird Management, U.S. Fish and Wildlife Service, 703-358-1714, or Dr. George T. Allen, Wildlife Biologist, 703-358-1825.

SUPPLEMENTARY INFORMATION: The Fish and Wildlife Service is the Federal agency with the primary responsibility for managing migratory birds. Our authority is based on the Migratory Bird Treaty Act (MBTA) (16 U.S.C. 703 et seq.), which implements conventions with Great Britain (for Canada), Mexico, Japan, and the Soviet Union (Russia). Raptors (birds of prey) are afforded Federal protection by the 1972 amendment to the Convention for the Protection of Migratory Birds and Game Animals, February 7, 1936, United States—Mexico, as amended; the Convention between the United States and Japan for the Protection of Migratory Birds in Danger of Extinction and Their Environment, September 19, 1974; and the Convention Between the United States of America and the Union of Soviet Socialist Republics (Russia) Concerning the Conservation of Migratory Birds and Their Environment, November 26, 1976.

The taking and possession of raptors are strictly prohibited except as permitted under regulations implementing the MBTA. Activities with migratory birds are prohibited unless specifically authorized by regulation. Regulations governing the issuance of permits for migratory birds are authorized by the MBTA and subsequent regulations. They are in title 50, Code of Federal Regulations, parts 10, 13, 21, and 22. Raptors also may be protected by State and tribal regulations.

We plan to prepare an updated environmental assessment (EA) of the activities of falconry (covered in 50 CFR 21.28 and 21.29) and raptor propagation (50 CFR 21.30). We seek suggestions for issues and alternatives to be considered in the EA.

Public Participation

You may submit written comments on topics to be considered to the location identified in the ADDRESSES section, or you may submit electronic comments to the internet address or the e-mail address listed in the ADDRESSES section. We must receive your comments before the date listed in the DATES section. Following review and consideration of comments, we will prepare a draft environmental assessment.

When submitting electronic comments, please include your name and return address in your message, identify it as comments on the falconry and raptor propagation EA, and submit your comments as an ASCII file. Do not use special characters or any encryption.

When submitting written comments, please include your name and return address in your letter and identify it as comments on the falconry and raptor propagation EA. To facilitate compiling the administrative record for this action, you must submit written comments on 8½ inch by 11 inch paper.

All comments will be available for public inspection during normal business hours at Room 4091 at the Fish and Wildlife Service, Division of Migratory Bird Management, 4501 North Fairfax Drive, Arlington, Virginia. The complete administrative record for this EA is available, by appointment, during normal business hours at the same address. You may call 703-358-1825 to make an appointment to view the record.

Our practice is to make comments, including names and home addresses of respondents, available for public review during regular business hours. An individual respondent may request that we withhold his or her home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety. We will not consider anonymous comments.

Dated: February 2, 2005.
Matt Hogan,
Director, U.S. Fish and Wildlife Service.

[FR Doc. 05-2379 Filed 2-8-05; 8:45 am]

BILLING CODE 4310-55-P